DEPARTMENT OF HEALTH AND HUMAN SERVICES

Centers for Disease Control and Prevention

Advisory Council for the Elimination of Tuberculosis Meeting

AGENCY: Centers for Disease Control and Prevention (CDC), Department of Health and Human Services (HHS).

ACTION: Notice of meeting.

SUMMARY: In accordance with the Federal Advisory Committee Act, the Centers for Disease Control and Prevention (CDC) announces the following meeting of the Advisory Council for the Elimination of Tuberculosis (ACET). This meeting is open to the public, limited only by 100 room seating and 100 ports for audio phone lines. Time will be available for public comment. Comments should be submitted in writing by email to the contact person listed below. The deadline for receipt is Monday, December 4, 2017. Persons who desire to make an oral statement, may request it at the time of the public comment period on December 12, 2017 at 11:40 a.m. EST. This meeting is also accessible by teleconference: 1-877-927-1433 and participant passcode: 12016435.

DATES: The meeting will be held on December 11, 2017, 8:30 a.m. to 4:30 p.m., EST and December 12, 2017, 8:30 a.m. to 12:00 p.m., EST.

ADDRESSES: CDC Corporate Square Campus, 8 Corporate Square Boulevard, Atlanta, Georgia 30329.

FOR FURTHER INFORMATION CONTACT: Margie Scott-Cseh, Committee Management Specialist, CDC, 1600 Clifton Road NE., Mailstop: E-07, Atlanta, Georgia 30329, telephone (404) 639-8317; zkr7@cdc.gov.

SUPPLEMENTARY INFORMATION:

Purpose: This Council advises and makes recommendations to the Secretary of Health and Human Services, the Assistant Secretary for Health, and the Director, CDC, regarding the elimination of tuberculosis. Specifically, the Council makes recommendations regarding policies, strategies, objectives, and priorities; addresses the development and application of new technologies; and reviews the extent to which progress has been made toward eliminating tuberculosis.

Matters To Be Considered: The agenda will include discussions on (1) Update on preliminary tuberculosis funding formula; (2) Update on whole genome sequencing data sharing plan; (3) Update on three-month Isoniazid/Rifapentine Regimen (3HP) guidelines; and (4) Updates from ACET workgroups. Agenda items are subject to change as priorities dictate.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2017-23335 Filed 10-25-17; 8:45 am]

BILLING CODE 4163-18-P